DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2005, there were six applications approved. This notice also includes information on three applications, two approved in November 2004 and one approved in May 2005, inadvertently left off the November 2004 and May 2005 notices, respectively. Additionally, 16 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: City of Des Moines, Iowa.

Application Number: 04-07-C-00-DSM.

Application Type: Impose and use a PFC.

PFC Level: $4.50.

Total PFC Revenue Approved in This Decision: $3,957,500.

Earliest Charge Effective Date: April 1, 2008.

Estimated Charge Expiration Date: April 1, 2009.

Class of Air Carriers Not Required To Collect PFC's: Part 135 air taxi/commercial operators.

Determination: Approved. Based on information contained in the public agency's application, the FAA has determined that the proposed class accounts for less than 1 percent of the total annual enplanements at Des Moines International Airport.

Brief Description of Projects Approved for Collection and Use:

Replace snow removal equipment and airfield snow broom.

Acquire snow removal equipment and airfield snow broom.

Replace aircraft rescue and firefighting vehicle.

Decision Date: November 30, 2004.

FOR FURTHER INFORMATION CONTACT: Lorna K. Sandridge, Central Region Airports Division, (816) 329-2641.

Public Agency: City of Columbia, Missouri.

Application Number: 04-02-U-00-COU.

Application Type: Use PFC revenue.

PFC Level: $4.50.

Total PFC Revenue To Be Used in This Decision: $7,759.

Charge Effective Date: November 1, 2002.

Estimated Charge Expiration Date: October 1, 2012.

Class of Air Carriers Not Required To Collect PFC's: No change from previous decision.

Brief Description of Project Approved for Use: Replacement snow plow/spreader truck.

Decision Date: November 30, 2004.

FOR FURTHER INFORMATION CONTACT: Lorna K. Sandridge, Central Region Airports Division, (816) 329-2641.

Public Agency: Erie Municipal Airport Authority, Erie, Pennsylvania.

Application Number: 05-04-C-00-ERI.

Application Type: Impose and use a PFC.

PFC Level: $4.50.

Total PFC Revenue Approved in This Decision: $837,953.

Earliest Charge Effective Date: July 1, 2005.

Estimated Charge Expiration Date: August 1, 2006.

Class of Air Carriers Not Required to Collect PFC's: None.

Brief Description of Projects Approved for Collection and Use:

Environmental assessment for runway 6/24 extension.

Site security phase II.

Command vehicle.

Airfield access road.

Acquire Orchard Park mobile home estates.

Replace high intensity runway lighting system.

9/11 security costs.

Construct two passenger loading bridges.

Aircraft rescue and firefighting vehicle (pumper).

Acquire runway friction tester vehicle.

Decision Date: May 31, 2005.

FOR FURTHER INFORMATION CONTACT: Lori Ledebohm, Harrisburg Airports District Office, (717) 730-2835.

Public Agency: Metropolitan Airports Commission, Minneapolis, Minnesota.

Application Number: 05-07-U-00-MSP.

Application Type: Use PFC revenue.

PFC Level: $4.50.

Total PFC Revenue to be Used in This Decision: $26,410,939.

Charge Effective Date: April 1, 2003.

Class of Air Carriers Not Required to Collect PFC'S: No change from previous decision.

Brief Description of Project Approved for Use: Fire/rescue replacement facility.

Decision Date: June 22, 2005.

FOR FURTHER INFORMATION CONTACT: Gordon Nelson, Minneapolis Airports District Office, (612) 713-4358.

Public Agency: City of Cody, Wyoming.

Application Number: 05-04-C-00-COD.

Application Type: Impose and use a PFC.

PFC Level: $4.50.

Total PFC Revenue Approved in this Decision: $220,000.

Earliest Charge Effective Date: September 1, 2005.

Estimated Charge Expiration Date: November 1, 2006.

Class of Air Carriers Not Required to Collect PFC'S: Non-scheduled, on-demand air carriers filing FAA Form 1800-31.

Determination: Approved. Based on information contained in the public agency's application, the FAA has determined that the proposed class accounts for less than 1 percent of the total annual enplanements at Yellowstone Regional Airport.

Brief Description of Projects Approved for Collection and Use:

Terminal area study (phase I).

Environmental assessment for midfield terminal.

PFC consulting services.

Decision Date: June 22, 2005.

FOR FURTHER INFORMATION CONTACT: 6 Chris Schaffer, Denver Airports District Office, (303) 342-1258.

Public Agency: County of Humboldt, Arcata, California.

Application Number: 05-07-C-00-ACV.

Application Type: Impose and use a PFC.

PFC Level: $4.50.

Total PFC Revenue Approved in this Decision: $392,265.

Earliest Charge Effective Date: July 1, 2005.

Estimated Charge Expiration Date: October 1, 2005.

Class of Air Carriers Not Required to Collect PFC'S: Non-scheduled, on-demand air carriers filing FAA Form 1800-31.

Determination: Approved. Based on information contained in the public agency's application, the FAA has determined that the proposed class accounts for less than 1 percent of the total annual enplanements at Arcata Airport (ACV).

Brief Description of Projects Approved for Collection at ACV and Use at ACV:

Benefit cost analysis for proposed runway extension.

Security enhancement/terminal modification.

Environmental assessment for proposed runway extension.

Rehabilitate runway 1/19.

Rehabilitate taxiways B and G.

Replace aircraft rescue and firefighting vehicle.

PFC administrative costs.

Brief Description of Project Approved for Collection at ACV and Use at Murray Field: Install perimeter wildlife fencing.

Brief Description of Projects Approved for Collection at ACV and Use at Dinsmore Airport:

Construct/improve airfield drainage.

Reconstruct/rehabilitate runway 9/27.

Brief Description of Project Approved for Collection at ACV and Use at Kneeland Airport: Environmental evaluation for airport drainage projects.

Brief Description of Project Approved for Collection at ACV and Use at Garberville Airport: Install airport perimeter fence and gates.

Decision Date: June 23, 2005.

FOR FURTHER INFORMATION CONTACT: Joseph Rodriguez, San Francisco Airports District Office, (650) 876-2778, extension 610.

Public Agency: Clark County Department of Airports, Las Vegas, Nevada.

Application Number: 05-05-C-00-LAS.

Application Type: Impose and use a PFC.

PFC Level: $4.50.

Total PFC Revenue Approved in this Decision: $622,726,100.

Earliest Charge Effective Date: January 1, 2017.

Estimated Charge Expiration Date: October 1, 2023.

Classes of Air Carriers Not Required to Collect PFC's: Nonscheduled/on-demand air carriers filing FAA Form 1800-31.

Determination: Approved. Based on information contained in the public agency's application, the FAA has determined that the proposed class accounts for less than 1 percent of the total annual enplanements at McCarran International Airport (LAS).

Brief Description of Projects Approved for Collection at LAS and Use at LAS at $4.50 PFC Level:

Pedestrian bridge from C gates to A/B gates.

In-line explosive detection system.

Taxiway B renovation/taxiway C extension.

Ramp rehabilitation.

Satellite D apron.

Brief Description of Projects Approved for Collection at LAS and Use at LAS at a $3.00 PFC Level:

Central plant upgrade.

Heating, ventilation, and air conditioning upgrades in concourse A/B.

Brief Description of Projects Approved for Collection at LAS and USe at Henderson Executive Airport at a $3.00 PFC Level:

Construct terminal and ramp.

Airport traffic control tower.

Brief Description of Project Approved for Collection at LAS and Use at North Las Vegas Airport at a $3.00 PFC Level: East side basing improvements.

Brief Description of Project Approved for Collection at LAS and Future Use at LAS at a $4.50 PFC Level:

Design of terminal 3.

Russell Road relocation.

Brief Description of Project Approved for Collection at LAS for Future Use at LAS at a $3.00 PFC Level: Russell Road park.

Decision Date: June 23, 2005.

FOR FURTHER INFORMATION CONTACT: Joseph Rodriguez, San Francisco Airports District Office, (650) 876-2778, extension 610.

Public Agency: City of Colorado Springs, Colorado.

Application Number: 05-08-C-00-COS.

Application Type: Impose and use a PFC.

PFC Level: $3.00.

Total PFC Revenue Approved in this Decision: $10,850,868.

Earliest Charge Effective Date: October 1, 2005.

Estimated Charge Expiration Date: July 1, 2009.

Class of Air Carriers Not Required to Collect PFC's: None.

Brief Description of Projects Approved For Collection And Use: Rehabilitation of runway 17L/35R.

Security infrastructure project.

Airport operations area vehicle service roads.

Resurfacing entry/exit roads.

Security checkpoint expansion.

Building modifications—explosive trace detection equipment relocation.

Pavement condition survey—taxiways E, E1-8, G, and H.

Brief Description of Disapproved Project: Terminal circulation road.

Determination: This project was not included in an approved security plan and was not justified based on traffic volumes.

Brief Description of Withdrawn Projects: Construct taxiway C north from C2 to taxiway B2.

Taxiway H.

Determination: These projects were withdrawn by the public agency by letter dated April 25, 2005. Therefore, the FAA did not rule on these projects in this decision.

Decision Date: June 24, 2005.

FOR FURTHER INFORMATION CONTACT: Christopher Schaffer, Denver Airports District Office, (303) 342-1258.

Public Agency: Town of Islip, New York.

Application Number: 05-03-C-00-ISP.

Application Type: Impose and use a PFC.

PFC Level: $4.50.

Total PFC Revenue Approved in This Decision: $37,133,218.

Earliest Charge Effective Date: September 1, 2005.

Estimated Charge Expiration Date: May 1, 2015.

Class of Air Carriers Not Required to Collect PCF'S: Nonscheduled/on-demand air carriers filing FAA Form 1800-31.

Determination: Approved. Based on information contained in the public agency's application, the FAA has determined that the proposed class accounts for less than 1 percent of the total annual enplanements at Long Island MacArthur Airport (ISP).

Brief Description of Projects Approved For Collection at ISP and Use at ISP:

Airfield service roadway.

Security access road and fencing—phase II.

2005 terminal improvements.

Closed-circuit television system and bomb-blast analysis—phase II.

Purchase snow removal equipment.

Acquisition of a hazardous materials vehicle/mobile command vehicle.

Snow removal equipment building.

Terminal area roadway improvements.

Study for technology-based security improvements.

Purchase four patrol cars.

Terminal heating, ventilation, and air conditioning upgrades.

East side expansion of aircraft apron.

Environmental assessment—concourse.

East concourse security expansion.

Glycol storage facility.

Construct service road.

Terminal baggage claim upgrades.

Brief Description of Projects Approved for Collection at ISP and Use at Bayport Airport:

Snow removal equipment building.

Improve airport access road—north end.

Brief Description of Project Partially Approved For Collection at ISP and Use at ISP: Improvements to security and emergency systems.

Determination: The security offices in the east concourse and upper level conference/situation rooms have been determined to be ineligible due to the lack of endorsement by the Transportation Security Administration. In addition, the project cost for the central command dispatch center was reduced from that requested because the office equipment was determined to be ineligible.

Brief Description of Disapproved Project: Runway 6/24 safety area enhancements.

Determination: Based on the FAA runway safety area determination, the proposed project would not be economical and practical for runway 6/24 between the existing runway safety area and the FAA-standard runway safety area.

Runway 10/28 rehabilitation.

Determination: This runway was determined to be ineligible.

Decision Date: June 29, 2005.

FOR FURTHER INFORMATION CONTACT: Dan Vornea, New York Airports District Office, (516) 227-3812.

Amendments to PFC Approvals
Amendment No. city, state | Amendment approved date | Original approved net PFC revenue | Amended approved net PFC revenue | Original estimated charge exp. date | Amended estimated charge exp. date
92-01-C-01-GTF, Great Falls, MT | 04/04/05 | $3,010,900 | $3,059,263 | 07/01/02 | 07/01/02
93-02-U-01-GTF, Great Falls, MT | 04/04/05 | NA | NA | 07/01/02 | 07/01/02
98-03-C-04-DSM, Des Moines, IA | 04/21/05 | 12,782,783 | 12,882,783 | 05/01/04 | 05/01/04
03-06-C-01-DSM, Des Moines, IA | 04/21/05 | 8,543,039 | 11,060,000 | 04/01/08 | 04/01/08
94-01-C-01-RKS, Rock Springs, WY | 04/05/05 | 332,500 | 382,300 | 01/01/06 | 01/01/07
*95-01-C-05-MCI, Kansas City, MO | 04/26/05 | 300,111,676 | 295,096,669 | 07/01/13 | 02/01/12
99-02-C-04-MCI, Kansas City, MO | 04/26/05 | 9,556,186 | 9,556,186 | 03/01/14 | 07/01/12
00-03-C-02-MCI, Kansas City, MO | 04/26/05 | 63,402,166 | 63,402,166 | 10/01/17 | 11/01/14
00-02-C-01-DEN, Denver, CO | 06/08/05 | 211,990,000 | 80,386,000 | 09/01/30 | 02/01/29
02-05-C-01-GRB, Green Bay, WI | 06/08/05 | 23,319,000 | 37,216,486 | 01/01/16 | 10/01/20
95-03-C-06-MKE, Milwaukee, WI | 06/08/05 | 42,613,864 | 42,739,428 | 12/01/04 | 12/01/04
02-07-C-02-MKE, Milwaukee, WI | 06/08/05 | 22,885,818 | 24,453,678 | 03/1/17 | 11/01/17
96-02-C-01-TEX, Telluride, CO | 06/27/05 | 786,773 | 778,287 | 05/01/01 | 06/01/01
94-01-C-03-ISP, Islip, NY | 06/27/05 | 21,221,043 | 21,956,043 | 08/01/05 | 09/01/05
00-06-C-03-MKE, Milwaukee, WI | 06/29/05 | 107,395,131 | 116,372,706 | 10/01/17 | 11/01/14
02-02-C-02-BFD, Bradford, PA | 06/30/05 | 337,179 | 329,504 | 12,01/09 | 07/01/13
Note: The amendment denoted by an asterisk (*) includes a change to the PFC level charged from $3.00 per enplaned passenger to $4.50 per enplaned passenger. For Kansas City, MO, this change is effective on August 1, 2005.)

Dated: Issued in Washington, DC, on November 23, 2005.
Joe Hebert,
Manager, Financial Analysis and Passenger Facility Charge Branch.

[FR Doc. 05-23480 Filed 11-29-05; 8:45 am]

BILLING CODE 4910-13M